DEPARTMENT OF ENERGY

Federal Energy Regulatory Commission

[Project Nos., P-349-174; P-2407-140]

Alabama Power Company; Notice of Application for Amendment of License and Soliciting Comments, Motions To Intervene, and Protests

Take notice that the following hydroelectric application has been filed with the Commission and is available for public inspection:

a. Application Type: Request for drought-based temporary variance of the Martin Project rule curve and minimum flow releases at the Yates and Thurlow Project.

b. Project Nos.: 349-174 and 2407-140.

c. Date Filed: November 4, 2011.

d. Applicant: Alabama Power Company.

e. Name of Projects: Martin Hydroelectric Project (P-349) and Yates and Thurlow Hydroelectric Project (P-2407).

f. Location: The Martin Dam Project is located on the Tallapoosa River in the counties of Coosa, Elmore, and Tallapoosa, Alabama. The Yates and Thurlow Project is located on the Tallapoosa River in the counties of Elmore and Tallapoosa, Alabama.

g. Filed Pursuant to: Federal Power Act, 16 U.S.C. 791(a)-825(r).

h. Applicant Contact: Mr. Barry Lovett, Alabama Power Company, 600 North 18th Street, P.O. Box 2641, Birmingham, Alabama 35291, Tel: (205) 257-1000.

i. FERC Contact: Christopher Chaney, (202) 502-6778, Christopher.Chaney@ferc.gov.

j. Deadline for filing comments, motions to intervene, and protests: 14 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street, NE., Washington, DC 20426. Please include the project number (P-349-174 and P-2407-140) on any documents or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Alabama Power is requesting a drought-based temporary variance to the Martin Project rule curve. The rule curve variance would be in effect from the date of Commission approval to March 1, 2012, and would allow the licensee to maintain the winter pool elevation 3 feet higher than normal, at elevation 483 feet instead of elevation 480 feet. In association with the Martin rule curve variance, the minimum flows from the Thurlow reservoir (P-2407) would be temporarily modified as follows until May 1, 2012: (1) When downstream Alabama River flows are reduced 10%, discharge would be the greater of ½ Yates inflow or 2 times inflow at the upstream Heflin gage; (2) when downstream Alabama River flows are reduced 20%, the discharge would be 350 cfs; and (3) if Alabama River flows are reduced to 2400 dsf, the discharge would be 400 cfs.

l. Locations of the Application: A copy of the application is available for inspection and reproduction at the Commission's Public Reference Room, located at 888 First Street, NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: November 8, 2011.
Kimberly D. Bose,
Secretary.

[FR Doc. 2011-29401 Filed 11-14-11; 8:45 am]

BILLING CODE 6717-01-P